DEPARTMENT OF EDUCATION

Reopening; Eligibility Designations and Applications for Waiving Eligibility Requirements; Programs Under Parts A and F of Title III and Programs Under Title V of the Higher Education Act of 1965, as Amended (HEA)

AGENCY: Office of Postsecondary Education, Department of Education.

ACTION: Notice.

SUMMARY: On December 16, 2021, we published in the Federal Register a notice inviting applications for the waiver of eligibility requirements for fiscal year (FY) 2022 (Eligibility NIA) for programs authorized by Parts A and F of Title III and by Title V of the HEA. This notice reopens the Deadline for Transmittal of Applications. All other requirements and conditions in the notice remain the same.

DATES: The reopening is applicable February 7, 2022.

FOR FURTHER INFORMATION CONTACT: Jason Cottrell, Ph.D., U.S. Department of Education, 400 Maryland Avenue SW, Room 250-50, Washington, DC 20202. Telephone: (202) 453-7530. Email: Jason.Cottrell@ed.gov.

If you use a telecommunications device for the deaf (TDD) or a text telephone (TTY), call the Federal Relay Service (FRS), toll free, at 1-800-877-8339.

SUPPLEMENTARY INFORMATION: On December 16, 2021, we published in the Federal Register the Eligibility NIA (86 FR 71470). Under the Eligibility NIA, applications were due on January 21, 2022. This notice reopens the deadline for transmittal of applications until February 18, 2022. All other requirements and conditions in the notice remain the same.

Accessible Format: On request to the program contact person listed under FOR FURTHER INFORMATION CONTACT, individuals with disabilities can obtain this document and a copy of the application package in an accessible format. The Department will provide the requestor with an accessible format that may include Rich Text Format (RTF) or text format (txt), a thumb drive, an MP3 file, braille, large print, audiotape, or compact disc, or other accessible format.

Electronic Access to This Document: The official version of this document is the document published in the Federal Register. You may access the official edition of the Federal Register and the Code of Federal Regulations at www.govinfo.gov. At this site you can view this document, as well as all other documents of this Department published in the Federal Register, in text or Portable Document Format (PDF). To use PDF you must have Adobe Acrobat Reader, which is available free at the site.

You may also access documents of the Department published in the Federal Register by using the article search feature at: www.federalregister.gov. Specifically, through the advanced search feature at this site, you can limit your search to documents published by the Department.

Michelle Asha Cooper,
Deputy Assistant Secretary for Higher Education Programs, Delegated the Authority to Perform the Functions and Duties of the Assistant Secretary, Office of Postsecondary Education.

[FR Doc. 2022-02514 Filed 2-4-22; 8:45 am]

BILLING CODE 4000-01-P